Presidential Determination No. 02-18 of April 27, 2001

Determination to (1) Waive Section 512 of the Foreign Operations, Export Financing, and Related Programs Appropriations Act, 2002 (Public Law 107-115) and Section 620(q) of the Foreign Assistance Act of 1961, as amended to Provide Assistance to Afghanistan and (2) Authorize a Drawdown Under Section 506(a)(1) of the Foreign Assistance Act of 1961, as Amended, to Provide Emergency Military Assistance to Afghanistan

Memorandum for the Secretary of State [and] the Secretary of Defense

Pursuant to the authority vested in me by the Constitution and laws of the United States, including section 512 of the Kenneth M. Ludden Foreign Operations, Export Financing, and Related Programs Appropriations Act, Fiscal Year 2002 (Public Law 107-115) (FOAA) and sections 506(a)(1) and 620(q) of the Foreign Assistance Act of 1961, as amended, 22 U.S.C. 2318(a)(1) (FAA), I hereby determine that:

(1)

assistance to Afghanistan is in the national interest of the United States; and

(2)

an unforeseen emergency exists that requires immediate military assistance to the Government of Afghanistan for purposes of training and equipping the Afghan national armed forces; and the emergency requirement cannot be met under the authority of the Arms Export Control Act or any other law except section 506(a)(1) of the FAA.

Accordingly, I hereby waive section 512 of the FOAA and section 620(q) of the FAA with respect to assistance to Afghanistan. Further, I hereby direct the drawdown of up to $2 million of defense articles, services, and training from the inventory and resources of the Department of Defense for military assistance for Afghanistan.

The Secretary of State is authorized and directed to report this determination to the Congress and to arrange for its publication in the Federal Register.

B

THE WHITE HOUSE,

Washington, April 27, 2002.

[FR Doc. 02-11905

Filed 5-9-02; 8:45 am]

Billing code 4710-10-P